DEPARTMENT OF TRANSPORTATION

Federal Aviation Administration

14 CFR Part 39

[Docket No. FAA-2005-22529; Directorate Identifier 2005-NM-099-AD; Amendment 39-14592; AD 2006-10-08]

RIN 2120-AA64

Airworthiness Directives; Boeing Model 767-200, -300, and -300F Series Airplanes

AGENCY: Federal Aviation Administration (FAA), Department of Transportation (DOT).

ACTION: Final rule.

SUMMARY: The FAA is superseding an existing airworthiness directive (AD), which applies to certain Boeing Model 767-200, -300, and -300F series airplanes. That AD currently requires repetitive inspections of the lubrication passage and link assembly joint in the inboard and outboard flaps of the trailing edge for discrepancies, and corrective action if necessary. This new AD requires new inspections for cracking or severe wear of the bearings of the link assembly, inspections of any link assembly not previously inspected for damage, and corrective actions if necessary. This AD also ends the existing repetitive inspections for certain airplanes, and extends the repetitive interval for the existing repetitive inspections and the compliance time for the corrective action on certain other airplanes. This AD also provides an optional terminating action. This AD results from additional reports indicating fractured bearings of the link assembly joint in the inboard and outboard flaps of the trailing edge. We are issuing this AD to prevent failure of the bearings in the link assembly joint, which could result in separation of the inboard or outboard flap and consequent loss of control of the airplane.

DATES: This AD becomes effective June 19, 2006.

The Director of the Federal Register approved the incorporation by reference of certain publications listed in the AD as of June 19, 2006.

On February 14, 2002 (67 FR 4328, January 30, 2002), the Director of the Federal Register approved the incorporation by reference of Boeing Alert Service Bulletin 767-27A0167, dated December 7, 2000.

ADDRESSES: You may examine the AD docket on the Internet at http://dms.dot.gov or in person at the Docket Management Facility, U.S. Department of Transportation, 400 Seventh Street, SW., Nassif Building, room PL-401, Washington, DC.

Contact Boeing Commercial Airplanes, P.O. Box 3707, Seattle, Washington 98124-2207, for service information identified in this AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2002-01-15, amendment 39-12609 (67 FR 4328, January 30, 2002). The existing AD applies to certain Boeing Model 767-200, -300, and -300F series airplanes. That NPRM was published in the Federal Register on September 27, 2005 (70 FR 56383). That NPRM proposed to require the following actions:

• Repetitive inspections of the lubrication passage and link assembly joint in the inboard and outboard flaps of the trailing edge for discrepancies, and corrective action if necessary.

• New inspections for cracking or severe wear of the bearings of the link assembly, and corrective actions if necessary.

• Inspections of any link assembly not previously inspected for damage, and replacement with a new assembly if necessary.

That NPRM also proposed to end the existing repetitive inspections for certain airplanes, and extend the repetitive interval for the existing repetitive inspections and the compliance time for the corrective action on certain other airplanes. That NPRM also provided an optional terminating action that would end the repetitive inspections.

Comments

We provided the public the opportunity to participate in the development of this AD. We have considered the comments that have been received on the NPRM.

Support for the Proposed AD

One commenter, US Airways, supports the NPRM.

Request To Clarify Compliance Times

Boeing requests that we clarify a compliance time stated in paragraph (g)(2) of the NPRM. For an airplane on which the lubrication passage was blocked but no fractured bearing or loose or damaged joint was found, paragraph (g)(2) of the NPRM would require doing the actions in Part 2 of Boeing Alert Service Bulletin 767-27A0167 within 24 months after doing the initial inspection in accordance with Part 1 of the service bulletin. The commenter notes that the relevant point in time is the most recent inspection in accordance with Part 1 of the service bulletin, which is not necessarily the time of the initial inspection. The commenter requests that we revise paragraph (g)(2) to require doing the actions in Part 2 of the service bulletin within 24 months after the most recent inspection in accordance with paragraph (a) of AD 2002-01-15.

We agree with the request and have revised paragraph (g)(2) of this AD for the reasons that Boeing states. For clarification, we have also included references to repetitive inspections performed in accordance with paragraph (b)(1) of AD 2002-01-15 and inspections performed in accordance with paragraph (f) of this AD.

Similarly, Boeing requests that we clarify the compliance time in paragraph (h) of the NPRM. Paragraph (h) of the NPRM states a compliance time of “24 months after the most recent inspection in accordance with paragraph (b)(1) of AD 2002-01-15.” The commenter notes that paragraph (b)(1) of AD 2002-01-15 states only the repetitive inspection interval. It is possible that the most recent inspection may have been the initial inspection in accordance with paragraph (a) of AD 2002-01-15.

We agree. We have revised paragraph (h) of this AD to state a compliance time of “24 months after the most recent inspection in accordance with paragraph (a) or (b)(1) of AD 2002-01-15, or paragraph (f) of this AD, as applicable.”

Request To Clarify Appropriate Source of Service Information

The Air Transport Association (ATA), on behalf of one of its members, Delta Airlines (Delta), requests that we revise paragraphs (f) and (g) of the NPRM, which restate paragraphs (a) and (b) of AD 2002-01-15. The commenter would like us to remove references to Boeing Alert Service Bulletin 767-27A0167, dated December 7, 2000, in those paragraphs. Delta feels that the reference to the original issue of the service bulletin is confusing and should be deleted from paragraphs (f) and (g) of the NPRM, in light of the fact that these paragraphs state “After the effective date of this AD, only Revision 2 of the service bulletin may be used.”

We do not agree. We are restating the requirements of AD 2002-01-15, including the references to the original issue of Boeing Alert Service Bulletin 767-27A0167, to ensure that operators who have previously done required actions in accordance with that service bulletin are still in compliance with the AD. If we remove the reference to the original issue of Boeing Alert Service Bulletin 767-27A0167 and refer to only Revision 2 of that service bulletin, then operators who previously did the required actions in accordance with the original issue of the service bulletin would be out of compliance as of the effective date of the new AD. We find that inspections that have been done before the effective date of this AD in accordance with the instructions in the original issue of the service bulletin will provide an acceptable level of safety until the newly required actions are done. We have not changed the AD in this regard.

Request To Revise Compliance Time for Restated Actions

Boeing requests that we revise the compliance time for the initial inspection in paragraph (f) of the NPRM. Paragraph (f) of the NPRM specifies compliance “within 90 days after February 14, 2002 (the effective date of AD 2002-01-15), or within 36 months after date of manufacture of the airplane, whichever is later.” The commenter requests that we change this compliance time to “within 90 days after the effective date to this AD, or within 6 months after the most recent inspection in accordance with paragraph (a) of AD 2002-01-15, whichever is later.” The commenter states that airplanes will be out of compliance upon the effective date of the new AD, even if the inspections in accordance with Part 1 of Boeing Alert Service Bulletin 767-27A0167 are currently being done.

We do not agree. As explained previously, paragraph (f) of this AD restates the initial inspection requirements of paragraph (a) of AD 2002-01-15. Our research indicates that inspections in accordance with paragraph (a) of that AD should have been accomplished on affected airplanes no later than 2004, considering that the last affected airplane was manufactured in 2000. We find that any affected airplane currently on the U.S. Register is already required to be in compliance with the requirements of paragraph (f) of this AD. Further, because the compliance time for these requirements has passed, the inspections required by paragraph (f) of this AD would have to be accomplished on any airplane that is not currently on the U.S. Register before that airplane could be added to the Register. We have not changed the AD in this regard.

Request To Rearrange Paragraphs

ATA, on behalf of UPS, requests that paragraph (g) of the NPRM be included under the heading “NEW REQUIREMENTS OF THIS AD,” and that paragraph (h) of the NPRM be restated as paragraph (g)(1). UPS states that the requirements of paragraph (g) do not reflect the requirements of paragraph (b) of AD 2002-01-15.

We acknowledge that paragraph (g) of this AD is different than paragraph (b) of AD 2002-01-15. Compliance times for certain actions specified in paragraph (g) have been extended beyond the compliance times that are currently required by paragraph (b) of AD 2002-01-15. Also, the repetitive inspection requirement has been removed for airplanes on which no discrepancy was found during the initial inspection. However, we consider paragraph (g) of this AD to be a restatement of the requirements of paragraph (b) of AD 2002-01-15 because the actions remaining in paragraph (g) are essentially the same as those in paragraph (b), and the changes to the compliance times are relieving, giving affected operators more time to comply with the existing requirements or obviating the need to continue repetitive inspections. We have revised the heading that precedes paragraph (g) of this AD to acknowledge that we have changed the compliance times in that paragraph from the times specified in AD 2002-01-15. We find that no further change to the AD is necessary in this regard.

Request To Extend Compliance Times

ATA, on behalf of UPS, requests that we extend the compliance time for doing Part 2 of the service bulletin from 24 months after the initial or most recent inspection in accordance with AD 2002-01-15, as applicable (as stated in paragraphs (g)(2) and (h) of the NPRM), to 24 months after the effective date of the new proposed AD. The commenter states that this change would ensure an acceptable level of safety and alleviate potential scheduling burdens. The commenter did not provide data supporting its position.

We do not agree. The compliance time of 24 months since the most recent inspection in accordance with AD 2002-01-15 is based on service history of bearing failure, as well as recommendations by the manufacturer based on extensive testing. We measure the compliance time from the most recent inspection to preserve the existing inspections and prevent a lapse in maintenance. This compliance time represents the maximum compliance time allowable to adequately ensure safety. Revising the compliance time to 24 months after the effective date of the AD may inadvertently extend the compliance time by as long as 18 months. We find that this would not adequately ensure safety. We have not changed the AD in this regard.

Request To Allow Continued Repetitive Inspections Until Extended Compliance Time

ATA, on behalf of UPS, requests that we allow repetitive inspections in accordance with Part 1 of the service bulletin to continue at the 6-month interval specified in paragraph (b) of AD 2002-01-15, until Parts 2 and 3 of the service bulletin are done. (This request is related to the same commenter's request, discussed previously, to extend the compliance time for Part 2 to 24 months after the effective date of this AD.) The commenter states that allowing repetitive inspections to continue would ensure an acceptable level of safety.

We do not agree. As we explained in the preamble of the NPRM, there have been numerous additional findings of fractured bearings of the link assembly joint since we issued AD 2002-01-15. These findings occurred during accomplishment of Part 2 of the service bulletin, providing evidence that the bearings of the link assembly joint may fail even when they are properly lubricated, and the inspections in Part 1 are not adequate to detect fractured bearings. We have not changed the AD in this regard.

Request To Extend Grace Period for Part 3 of Service Bulletin

ATA, on behalf of UPS, requests that we extend the grace period for doing Part 3 of the service bulletin from 18 months after the effective date of the AD (as stated in paragraphs (i)(1) and (i)(2) of the NPRM) to 24 months after the effective date of the AD. The commenter indicates that these grace periods would alleviate scheduling burdens associated with the 18-month compliance time. The commenter provides no justification for its request.

We do not agree. Though the service bulletin does not provide a grace period for doing the actions in Part 3 of the service bulletin, we have included a grace period of 18 months. In establishing this grace period, we considered the manufacturer's recommendation, typical operators' maintenance schedules, and the degree of urgency associated with the subject unsafe condition. We also considered the small number of airplanes included in Group 2 in the service bulletin. Based on these factors, we find that the 18-month grace period will not create scheduling burdens because the actions in Part 3 of the service bulletin are required at 72 months after accomplishing the Part 2 inspection (for Group 1 airplanes), or 72 months since the date of issuance of the original standard airworthiness certificate or the date of issuance of the original export certificate of airworthiness (for Group 2 airplanes); or 18 months after the effective date of the AD. We have not changed the AD in this regard.

Request To Clarify Meaning of “Initial Inspection”

ATA, on behalf of UPS, requests that we revise paragraph (i)(2) of the NPRM to more specifically define that the “initial” inspection specified for Group 2 airplanes in that paragraph means the inspection in accordance with Part 3 of Boeing Alert Service Bulletin 767-27A0167, Revision 2, dated October 7, 2004. We infer that the commenter is concerned about the potential for misunderstanding the difference between the “initial inspection” specified in paragraph (f) of the NPRM and the inspection in accordance with Part 3 of the service bulletin that is specified in paragraph (i) of the NPRM.

We agree with the commenter's request. We have revised the wording of paragraph (i)(2) to remove the words, “Do the initial inspection.” This change results in the wording of paragraph (i)(2) now paralleling the wording of paragraph (i)(1).

Conclusion

We have carefully reviewed the available data, including the comments that have been received, and determined that air safety and the public interest require adopting the AD with the changes described previously. We have determined that these changes will neither increase the economic burden on any operator nor increase the scope of the AD.

Costs of Compliance

There are about 855 airplanes of the affected design in the worldwide fleet. The following table provides the estimated costs for U.S. operators to comply with this AD, at an average labor rate of $65 per work hour.

Estimated Costs
Action | Work hours | Cost per airplane | Number of U.S.- registered airplanes | Fleet cost
Part 1 of Boeing Alert Service Bulletin 767-27A0167 (required by AD 2002-01-151) | 6 | $390 ¹ | 332 ¹ | $129,480.¹
Part 2 of Boeing Alert Services Bulletin 767-27A0167 (new requirement ²) | 17 | $1,105 | Up to 332 ² | Up to $366,860. ²
Part 3 of Boeing Alert Service Bulletin 767-27A0167 (new requirement) | 8 | $520, per inspection cycle | 371 | $192,920, per inspection cycle.
¹ Repetitive Part 1 inspections are required only on condition, and only until Part 2 of Boeing Alert Service Bulletin 767-27A0167 has been done.
² Applies to airplanes on which Part 2 has not been previously accomplished: not all airplanes will be subject to this action.

The optional terminating action provided in this AD, if accomplished, would take about 23 work hours per airplane, at an average labor rate of $65 per work hour. Required parts would cost about $3,885 per airplane. Based on these figures, the estimated cost of the optional terminating action specified in this AD is $5,380 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12609 (67 FR 4328, January 30, 2002) and by adding the following new airworthiness directive (AD):

2006-10-08 Boeing: Amendment 39-14592. Docket No. FAA-2005-22529; Directorate Identifier 2005-NM-099-AD.

Effective Date

(a) This AD becomes effective June 19, 2006.

Affected ADs

(b) This AD supersedes AD 2002-01-15.

Applicability

(c) This AD applies to Boeing Model 767-200, -300, and -300F series airplanes; certificated in any category; identified in Boeing Alert Service Bulletin 767-27A0167, Revision 2, dated October 7, 2004.

Unsafe Condition

(d) This AD results from additional reports indicating fractured bearings of the link assembly joint in the inboard and outboard flaps of the trailing edge. We are issuing this AD to prevent failure of the bearings in the link assembly joint, which could result in separation of the inboard or outboard flap and consequent loss of control of the airplane.

Compliance

(e) You are responsible for having the actions required by this AD performed within the compliance times specified, unless the actions have already been done.

Requirements of AD 2002-01-15

Initial Inspection

(f) For airplanes having line numbers 1 through 819 inclusive, on which Part 2 of Boeing Alert Service Bulletin 767-27A0167 has not been done: Within 90 days after February 14, 2002 (the effective date of AD 2002-01-15), or within 36 months after date of manufacture of the airplane, whichever is later, do detailed inspections of the lubrication passage and link assembly joint in the inboard and outboard flaps of the trailing edge for discrepancies (e.g., lubrication passage blocked, fractured bearing, loose or damaged joint); per Part 1 of the Accomplishment Instructions of Boeing Alert Service Bulletin 767-27A0167, dated December 7, 2000; or Revision 2, dated October 7, 2004. After the effective date of this AD, only Revision 2 of the service bulletin may be used.

Repetitive Inspections/Corrective Action With New Compliance Times

(g) For airplanes having line numbers 1 through 819 inclusive, on which Part 2 of Boeing Alert Service Bulletin 767-27A0167 has not been done: Do the actions required by paragraph (g)(1), (g)(2), or (g)(3) of this AD, as applicable, at the time specified, per the Accomplishment Instructions of Boeing Alert Service Bulletin 767-27A0167, dated December 7, 2000; or Revision 2, dated October 7, 2004. After the effective date of this AD, only Revision 2 of the service bulletin may be used.

(1) If the lubrication passage is not blocked and no fractured bearing or loose or damaged joint is found, do paragraph (h) of this AD.

(2) If the lubrication passage is blocked and no fractured bearing or loose or damaged joint is found, repeat the inspection required by paragraph (f) of this AD at intervals not to exceed 60 days, and within 24 months after the most recent inspection required by paragraph (a) or (b)(1) of AD 2002-01-15, or paragraph (f) of this AD, as applicable, do the actions required by paragraph (g)(3) of this AD.

(3) If any fractured bearing or loose or damaged joint is found, before further flight, do the corrective action (including removal of the link assembly, inspection for damage, and replacement with a new assembly if damaged), as specified in Part 2 of the Accomplishment Instructions of the service bulletin.

New Requirements of This AD

(h) For airplanes having line numbers 1 through 819 inclusive, on which the lubrication passage has not been found blocked and no fractured bearing or loose or damaged joint has been found, and on which Part 2 of Boeing Alert Service Bulletin 767-27A0167 has not been done: Within 24 months after the most recent inspection in accordance with paragraph (a) or (b)(1) of AD 2002-01-15, or paragraph (f) of this AD, as applicable, remove the link assembly, perform a detailed inspection of the link assembly for damage, and reinstall the undamaged link or replace it with a new link assembly that has been inspected and found to be free of damage or other discrepancy, in accordance with Part 2 of the Accomplishment Instructions of Boeing Alert Service Bulletin 767-27A0167, Revision 2, dated October 7, 2004.

Detailed Inspection of Bearing Ball and Outer Race

(i) For all airplanes: Remove the link assembly, and perform a detailed inspection for cracking of the bearing ball, and for severe wear of the outer race of the bearing, in accordance with Part 3 of the Accomplishment Instructions of Boeing Alert Service Bulletin 767-27A0167, Revision 2, dated October 7, 2004. Do this action at the time specified in paragraph (i)(1) or (i)(2) of this AD, as applicable. Then, repeat this action at intervals not to exceed 72 months. If any cracking or severe wear is found during any inspection required by this paragraph: Before further flight, do the corrective action in accordance with Part 2 of the Accomplishment Instructions of Boeing Alert Service Bulletin 767-27A0167, Revision 2, dated October 7, 2004, or do paragraph (j) of this AD.

(1) For airplanes identified in the service bulletin as being in Group 1: Within 72 months after doing Part 2 of the Accomplishment Instructions of Boeing Alert Service Bulletin 767-27A0167, dated December 7, 2000; or Revision 2, dated October 7, 2004, or within 18 months after the effective date of this AD, whichever is later.

(2) For airplanes identified in the service bulletin as being in Group 2: Within 72 months since the date of issuance of the original standard airworthiness certificate or the date of issuance of the original export certificate of airworthiness; or within 18 months after the effective date of this AD; whichever is later.

Optional Terminating Action

(j) For all airplanes: Replacing the existing link assemblies of the trailing edge flaps with new, improved or modified assemblies that contain new bearings, in accordance with the Accomplishment Instructions of Boeing Service Bulletin 767-27-0196, dated April 21, 2005, ends the repetitive removal/inspections required by paragraph (g), (h), and (i) of this AD, as applicable.

Actions Accomplished Previously

(k) Inspections and corrective actions done before the effective date of this AD in accordance with the Accomplishment Instructions of Boeing Alert Service Bulletin 767-27A0167, Revision 1, dated June 6, 2002, are acceptable for compliance with the corresponding actions required by this AD.

No Reporting Requirement

(l) Although Boeing Alert Service Bulletin 767-27A0167, Revision 2, dated October 7, 2004, specifies to submit certain information to the manufacturer, this AD does not require that action.

Alternative Methods of Compliance (AMOCs)

(m)(1) The Manager, Seattle Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(4) AMOCs approved previously according to AD 2002-01-15 are approved as AMOCs for the corresponding provisions of this AD.

Material Incorporated by Reference

(n) You must use Boeing Alert Service Bulletin 767-27A0167, dated December 7, 2000; or Boeing Alert Service Bulletin 767-27A0167, Revision 2, dated October 7, 2004; as applicable; to perform the actions that are required by this AD, unless the AD specifies otherwise. If you accomplish the optional terminating action, you must use Boeing Service Bulletin 767-27-0196, dated April 21, 2005.

(1) The Director of the Federal Register approved the incorporation by reference of Boeing Alert Service Bulletin 767-27A0167, Revision 2, dated October 7, 2004; and Boeing Service Bulletin 767-27-0196, dated April 21, 2005; in accordance with 5 U.S.C. 552(a) and 1 CFR part 51.

(2) On February 14, 2002 (67 FR 4328, January 30, 2002), the Director of the Federal Register approved the incorporation by reference of Boeing Alert Service Bulletin 767-27A0167, dated December 7, 2000.

(3) Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 4, 2006.
Ali Bahrami,
Manager, Transport Airplane Directorate, Aircraft Certification Service.

[FR Doc. 06-4423 Filed 5-12-06; 8:45 am]

BILLING CODE 4910-13-P